Title 3—

The President

Proclamation 7816 of September 17, 2004

National Hispanic Heritage Month, 2004

By the President of the United States of America

A Proclamation

During National Hispanic Heritage Month, we recognize Hispanic Americans for helping to shape our national character and strengthen our communities. The warmth and vitality of the Hispanic culture are great gifts to America and are part of the unique fabric of our country.

Hispanic Americans have enriched our Nation through contributions in many professions and fields, including education, law, government, business, science, sports, and the arts. Since our Nation's founding, Hispanic Americans have served bravely in the United States Armed Forces, earning more than 3 dozen Medals of Honor and numerous distinguished military decorations for their leadership, courage, and patriotism. Today, Hispanic Americans in our Armed Forces, National Guard, and Reserve units continue this proud legacy as they stand watch on the front lines of freedom. The hard work, values, and devotion to community of Hispanic Americans set a positive example for all Americans.

Across our country, we are working to continue helping Hispanic Americans realize the great promise of America. In 2002, I set a goal of increasing the number of minority homeowners by at least 5.5 million by the end of the decade. We are making good progress—having added more than 1.6 million minority homeowners so far. My Administration's business agenda and economic policies have helped create an environment in which Latino small business owners in the United States are starting new businesses and employing millions of people, expanding trade throughout the Americas, and generating billions in revenue. Through the No Child Left Behind Act of 2001, we are working to ensure that schools are serving every student. In addition, we are committed to improving immigration services while strengthening national security.

I join with all Americans in celebrating the heritage, culture, spirit, and contributions of Hispanic Americans. To honor the achievements of Hispanic Americans, the Congress, by Public Law 100-402, as amended, has authorized and requested the President to issue annually a proclamation designating September 15 through October 15, as “National Hispanic Heritage Month.”

NOW, THEREFORE, I, GEORGE W. BUSH, President of the United States of America, do hereby proclaim September 15 through October 15, 2004, as National Hispanic Heritage Month. I call upon public officials, educators, librarians, and all the people of the United States to observe this month with appropriate ceremonies, activities, and programs.

IN WITNESS WHEREOF, I have hereunto set my hand this seventeenth day of September, in the year of our Lord two thousand four, and of the Independence of the United States of America the two hundred and twenty-ninth.

B

[FR Doc. 04-21353

Filed 9-20-04; 11:00 am]

Billing code 3195-01-P